DEPARTMENT OF TRANSPORTATION

Federal Transit Administration

[Docket No. FTA-2015-0026]

Notice of Proposed Buy America Waiver for Proposed Innovative Electronic Platform Track Intrusion System

AGENCY: Federal Transit Administration, DOT.

ACTION: Notice of Proposed Buy America waiver and request for comment.

SUMMARY: The Federal Transit Administration (FTA) received a request from the Los Angeles County Metropolitan Transportation Authority (LACMTA) for a Buy America non-availability waiver for the procurement of a proposed innovative electronic platform track intrusion system (PTIDS). LACMTA seeks to procure the PTIDS for research and testing purposes to determine whether such a system will help to increase rail safety by identifying obstacles in the right-of-way. PTIDS uses radar transponder technology, such as sensors, to detect intrusions on rail tracks. If an object is detected, the sensors immediately send notification to personnel who may then stop the train and take appropriate action. LACMTA seeks a waiver for the PTIDS because it contains twelve components, six of which only are available from a single source and currently are not manufactured in the United States. FTA is providing notice of the non-availability waiver request and seeks public comment before deciding whether to grant the request. If granted, the waiver only would apply to this one procurement of the specific PTIDS components identified in this waiver request, and not to any future procurement by LACMTA or others. FTA also is providing notice that it will conduct a supplier scouting search for domestic alternatives to the foreign components via the process described in this Notice.

DATES: Comments must be received by October 13, 2015. Late-filed comments will be considered to the extent practicable.

ADDRESSES: Please submit your comments by one of the following means, identifying your submissions by docket number FTA-2015-0026:

1. Web site: http://www.regulations.gov. Follow the instructions for submitting comments on the U.S. Government electronic docket site.

2. Fax: (202) 493-2251.

3. Mail: U.S. Department of Transportation, 1200 New Jersey Avenue SE, Docket Operations, M-30, West Building, Ground Floor, Room W12-140, Washington, DC 20590-0001.

4. Hand Delivery: U.S. Department of Transportation, 1200 New Jersey Avenue SE., Docket Operations, M-30, West Building, Ground Floor, Room W12-140, Washington, DC 20590-0001 between 9 a.m. and 5 p.m., Monday through Friday, except Federal holidays.

Instructions: All submissions must make reference to the “Federal Transit Administration” and include docket number FTA-2015-0026. Due to the security procedures in effect since October 2011, mail received through the U.S. Postal Service may be subject to delays. Parties making submissions responsive to this Notice should consider using an express mail firm to ensure the prompt filing of any submissions not filed electronically or by hand. Note that all submissions received, including any personal information therein, will be posted without change or alteration to http://www.regulations.gov. For more information, you may review DOT's complete Privacy Act Statement in the Federal Register published April 11, 2000 (65 FR 19477), or you may visit http://www.regulations.gov.

FOR FURTHER INFORMATION CONTACT: Laura Goldin, FTA Attorney-Advisor, at (202) 366-2743 or laura.goldin@dot.gov.

SUPPLEMENTARY INFORMATION: The purpose of this Notice is to provide notice and seek public comment on whether the FTA should grant a non-availability waiver to LACMTA for the procurement of a PTIDS. On May 1, 2015, LACMTA requested a Buy America non-availability waiver for the PTIDS because several components are only available from a single source and are not produced in sufficient and reasonably available quantities of a satisfactory quality in the United States. 49 U.S.C. 5323(j)(2)(A); 49 CFR 661.7(c).

LACMTA operates both heavy rail and light rail for 80 stations spanning 87 service miles. In December 2013, LACMTA entered into a partnership with Honeywell International, Inc. (Honeywell) and ProTran Technology LLC to submit an application in response to FTA's Notice of Funding Availability Solicitation of Project Proposals for Innovative Safety, Resiliency, and All-Hazards Emergency Response and Recovery Research Demonstrations. The goal of LACMTA's proposal is to demonstrate that the PTIDS is the most reliable, efficient, and secure system available and can immediately identify any right-of-way obstacles. The PTIDS relies on radar transponder technology to send an instant warning to rail operation safety systems and personnel. If an intrusion is detected, the PTIDS sensors trigger safety systems and notify personnel, so that the train can be stopped. Due to the accuracy and immediacy of the technology, LACMTA claims that the PTIDS allows for the greatest response time so more accidents will be avoided. PTIDS also has fail-safe mechanisms and uses algorithms to prevent false alarms, which plague many other platform intrusion detection systems on the market. In addition, LACMTA states that some components of this system are custom-designed. For instance, the PTIDS uses a radio-wave based sensor sub-system, a signal processing sub-system, a video sub-system, and a communications sub-system that provides alerts to operators. All of these sub-systems work together and are connected to one another by custom cables that are designed for the particular rail system and equipment. Honeywell currently manufactures the safety system equipment in Germany. LACMTA states that some PTIDS components currently are not available in the United States and no U.S. manufacturers make acceptable substitutes. Therefore, LACMTA is requesting a Buy America non-availablily waiver for certain PTIDS components that are manufactured abroad. 49 CFR 661.7.

According to LACMTA's request, six of the 12 components that comprise the PTIDS are foreign-made and require a non-availability waiver under 49 CFR 661.7. Those components requiring a waiver are: The AXIS fixed outdoor dome camera manufactured in Sweden; the AXIS wall mount for dome cameras manufactured in Sweden; the Honeywell Module Radar Sensor Modules Pair manufactured in Germany; the Honeywell GPC/CCU controller units manufactured in Germany; the Honeywell GPC Cabinet for equiptment manufactured in Germany and; the Honeywell Custom Cables for interconnection manufactured in Germany.

With certain exceptions, FTA's Buy America requirements prevent FTA from obligating an amount that may be appropriated to carry out its program for a project unless “the steel, iron, and manufactured goods used in the project are produced in the United States.” 49 U.S.C. 5323(j)(1). A manufactured product is considered produced in the United States if: (1) All of the manufacturing processes for the product take place in the United States; and (2) all of the components of the product are of U.S. origin. A component is considered of U.S. origin if it is manufactured in the United States, regardless of the origin of its subcomponents. 49 CFR 661.5(d). If, however, FTA determines that “the steel, iron, and goods produced in the United States are not produced in a sufficient and reasonably available amount or are not of a satisfactory quality,” then FTA may issue a waiver (non-availability waiver). 49 U.S.C. 5323(j)(2)(B); 49 CFR 661.7(c).

LACMTA is requesting a Buy America non-availability waiver in order to conduct research on and test the PTIDS for future use. LACMTA also notes that Honeywell may consider domestic manufacturing of certain elements of the PTIDS if this research and testing is successful and if there is adequate industry demand.

The purpose of this Notice is to publish LACMTA's request and seek public comment from all interested parties in accordance with 49 U.S.C. 5323(j)(3)(A). Comments will help FTA understand completely the facts surrounding the request, including the merits of the request. A full copy of the request has been placed in docket number FTA-2015-0026. Concurrent with the publication of this Notice, FTA will be conducting a scouting search through its Interagency Agreement with the U.S. Department of Commerce's National Institute of Standards and Technology (NIST) that is intended to assist manufacturers and transit agencies identify domestically made products. Interested domestic manufacturers should contact Samm Bowman, Business Specialist, NIST Manufacturing Extension Partnership, at samm@nist.gov or 301-975-5978.

Issued on September 21, 2015.
Dana Nifosi,
Deputy Chief Counsel.

[FR Doc. 2015-24643 Filed 9-28-15; 8:45 am]

BILLING CODE 4910-57-P